EQUAL EMPLOYMENT OPPORTUNITY COMMISSION

SES Performance Review Board

AGENCY: U.S. Equal Employment Opportunity Commission (EEOC).

ACTION: Notice of Membership of the EEOC Performance Review Board.

SUMMARY: Notice is hereby given of the appointment of members to the EEOC Performance Review Board.

FOR FURTHER INFORMATION CONTACT: Joann C. Riggs, Acting Chief Human Capital Officer, Office of Human Resources, U.S. Equal Employment Opportunity Commission, 1801 L Street, NW., Washington, DC 20507, (202) 663-4306.

SUPPLEMENTARY INFORMATION: Publication of the Performance Review Board (PRB) is required by 5 U.S.C. Section 4314(c)(4). The PRB reviews and evaluates the initial appraisal of a senior executive's performance by the supervisor, and makes written recommendations regarding performance ratings, performance awards, potential Presidential Rank Award nominees, and performance-based pay adjustments to the Chair. The Board shall consist of at least three voting members. When evaluating a career appointee's initial appraisal or recommending a career appointee for a performance award, more than half of the members must be career appointees. The names and titles of the PRB members and alternates are as follows:

Primary Members:

Anthony J. Kaminski, Chief Operating Officer (Chairperson);

Michel C. Fetzer, Director, Dallas District Office;

Kimberly J. Hancher, Chief Information Officer;

Jeffrey Smith, Chief Financial Officer; and

A. Jacy Thurmond, Jr. Esq., Senior Advisor to the Commissioner, Social Security Administration.

Alternates:

John Czajkowski, Assistant Inspector General for Management, Department of Treasury;

Peggy R. Mastroianni, Associate Legal Counsel; and

Roy J. Ruff, Jr., Director, Houston District Office.

DATES: Membership is effective on the date of this notice.

Signed at Washington, DC, on this 23rd day of October 2008.
For the Commission.
Naomi C. Earp,
Chair.

[FR Doc. E8-25794 Filed 10-28-08; 8:45 am]

BILLING CODE 6570-01-P